SECURITIES AND EXCHANGE COMMISSION

Agency Meetings

Notice is hereby given, pursuant to the provisions of the Government in the Sunshine Act, Pub. L. 94-409, that the Securities and Exchange Commission will hold the following meetings during the week of July 23, 2001.

Closed meetings will be held on Monday, July 23, 2001, at 3:00 p.m., Wednesday, July 25, 2001 at 11:00 a.m., and Thursday, July 26, 2001, at 3:00 p.m., and an open meeting will be held on Thursday, July 26, 2001, in Room 1C30, the William O. Douglas Room, at 2:00 p.m.

Commissioner Hunt, as duty officer, determined that no earlier notice thereof was possible.

Commissioners, Counsel to the Commissioners, the Secretary to the Commission, and recording secretaries will attend the closed meetings. Certain staff members who have an interest in the matters may also be present.

The General Counsel of the Commission, or his designee, has certified that, in his opinion, one or more of the exemptions set forth in 5 U.S.C. 552b(c)(5), (7), (9)(A), 9(B), and (10) and 17 CFR 200.402(a)(5), (7), (9)(i), 9(ii) and (10), permit consideration of the scheduled matters at the closed meetings.

The subject matter of the closed meeting scheduled for Monday, July 23, 2001, will be:

Institution and settlement of injunctive actions; and

Institution and settlement of administrative proceedings of an enforcement nature.

The subject matter of the closed meeting scheduled for Wednesday, July 25, 2001, will be:

Institution and settlement of injunctive actions; and

Institution and settlement of administrative proceedings of an enforcement nature.

The subject matter of the open meeting scheduled for Thursday, July 26, 2001, will be:

The Commission will hear oral argument on an appeal by IMS/CPAs & Associates (“IMS”), a registered investment adviser, as well as Vernon T. Hall, Stanley E. Hargrave, and Jerome B. Vernazza, control persons of IMS.

The law judge found that IMS willfully violated the antifraud and reporting provisions of the federal securities laws by making material misrepresentations, and related omissions, to clients in connection with recommending investments in which IMS had a financial interest. The law judge suspended IMS's and Vernazza's investment adviser registrations for six months, suspended Hall, Hargrave, and Vernazza from being associated with an investment adviser for six months, ordered them to cease and desist from future similar violations, and order them to disgorge $75,032.78 (minus the amount Vernazza previously refunded to clients) plus interest from August 1, 1996.

Among the issues likely to be argued are:

(1) Whether IMS materially misled customers to whom they were recommending investments in PPF funds regarding Respondents' arrangement with World and PPF funds, in violation of the securities laws; and

(2) Whether the sanctions imposed by the law judge are appropriate.

For further information, contact Joan McCarthy at (202) 942-0950.

The subject matter of the closed meeting scheduled for Thursday, July 26, 2001, will be:

Post argument discussion.

At times, changes in Commission priorities require alterations in the scheduling of meeting items. For further information and to ascertain what, if any, matters have been added, deleted or postponed, please contact: the Office of the Secretary at (202) 942-7070.

Dated: July 19, 2001.
Jonathan G. Katz,
Secretary.

[FR Doc. 01-18474 Filed 7-20-01; 11:40 am]

BILLING CODE 8010-01-M